DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a public meeting. The meeting is open to the public.

DATES: The NBSB will hold a public meeting on September 23, 2008 from 1 p.m. to 4 p.m. EST.

ADDRESSES: The Sheraton National Hotel, 900 S. Orme Street, Arlington, VA 22204. Phone: 703-521-1900.

FOR FURTHER INFORMATION CONTACT: CAPT Leigh A. Sawyer, D.V.M., M.P.H., Executive Director, National Biodefense Science Board, Office of the Assistant Secretary for Preparedness and Response, U.S. Department of Health and Human Services, 200 Independence Ave, SW., Room 638G, Washington, DC 20201; 202-205-3815; fax: 202-205-0613; e-mail address: leigh.sawyer@hhs.gov.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Background: The National Biodefense Science Board (NBSB) has been asked to provide feedback to the Department of Health and Human Services on the review of the National Disaster Medical System (NDMS) and national medical surge capacity as required by the Pandemic and All-Hazards Preparedness Act of 2006 and as specified by Paragraph 28 of Homeland Security Presidential Directive 21. To accomplish this task, the request for review was forward to the Disaster Medicine Working Group of the NBSB. The Disaster Medicine Working Group convened a NDMS Assessment Panel to consider these issues. The NDMS Assessment Panel is comprised of several NBSB members and includes a wide range of government, public, and private sector subject matter experts on the NDMS and surge capacity.

The purpose of the September 23, 2008 meeting is for the NBSB to consider the final report of the NDMS Assessment Panel and to provide recommendations to the Secretary of the U.S. Department of Health and Human Services. The public meeting will include a report from the NDMS Assessment Panel.

Availability of Materials: The draft agenda and other materials will be posted on the NBSB Web site at http://www.hhs.gov/aspr/omsph/nbsb/index.html prior to the meeting.

Procedures for Providing Public Input: Public participation in NBSB meetings is encouraged. Interested members of the public may attend the meeting in person or participate by public teleconference. Any member of the public wishing to obtain information regarding participation by teleconference should contact CAPT Leigh A. Sawyer. Members of the public may submit relevant written or oral information for the NBSB to consider. Oral Statements: In general, individuals or groups requesting an oral presentation at a public NBSB teleconference will be limited to three minutes per speaker, with no more than a total of one half hour for all speakers. To be placed on the public speaker list, interested parties should contact CAPT Leigh A. Sawyer, in writing (preferably via e-mail), by September 12, 2008. Written Statements: In general, individuals or groups may file written comments with the committee. All written comments must be received prior to September 12, 2008 and should be sent by e-mail with “NBSB Public Comment” as the subject line or by regular mail to the Contact person listed above. Individuals needing special assistance should notify the designated contact person by September 12, 2008.

Dated: August 8, 2008.
RADM William C. Vanderwagen,
Assistant Secretary for Preparedness and Response U.S. Department of Health and Human Services.

[FR Doc. E8-19505 Filed 8-21-08; 8:45 am]

BILLING CODE 4150-37-P